DEPARTMENT OF ENERGY

Federal Energy Regulatory Commission

[Project No. 12056-001]

Trinity River Authority of Texas; Notice of Surrender of Preliminary Permit

May 20, 2004.

Take notice that Trinity River Authority of Texas, permittee for the proposed Lake Livingston Dam Project, has requested that its preliminary permit be terminated. The permit was issued on September 27, 2001, and would have expired on August 31, 2004.¹ The project would have been located on the Trinity River in San Jacinto, Polk, Walker, and Trinity Counties, Texas.

¹ 96 FERC ¶ 62,322.

The permittee filed the request on April 21, 2004, and the preliminary permit for Project No. 12056 shall remain in effect through the 30th day after issuance of this notice unless that day is a Saturday, Sunday, part-day holiday that affects the Commission, or legal holiday as described in section 18 CFR 385.2007, in which case the effective date is the first business day following that day. New applications involving this project site, to the extent provided for under 18 CFR part 4, may be filed on the next business day.

Linda Mitry,
Acting Secretary.

[FR Doc. E4-1221 Filed 5-26-04; 8:45 am]

BILLING CODE 6717-01-P